DEPARTMENT OF HEALTH AND HUMAN SERVICES

Health Resources and Services Administration

Meeting of the Advisory Commission on Childhood Vaccines

AGENCY: Health Resources and Services Administration (HRSA), HHS.

ACTION: Notice; correction.

SUMMARY: The original Federal Register Notice announcing the December 2019 Advisory Commission on Childhood Vaccines (ACCV) meeting indicated that this meeting would be held December 5-6, 2019. This meeting is not being conducted over two days, and instead will only take place only on December 5, 2019.

The ACCV will hold a public meeting on December 5, 2019, at 10:00 a.m. Eastern Time via Adobe Connect and telephone conference. This will not be an in-person meeting. The public can join the meeting by:

1. (Audio Portion) Calling the conference phone number: 800-988-0218 and providing the following information:

Leader Name: Ms. Tamara Overby

Password: 9302948

(Visual Portion) Connecting to the ACCV Adobe Connect Meeting using the following URL: https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview using URL: http://www.adobe.com/go/connectpro_overview.

Information about the ACCV and the agenda for this public meeting can be obtained at the following website: http://www.hrsa.gov/advisorycommittees/childhoodvaccines/index.html.

FOR FURTHER INFORMATION CONTACT: Annie Herzog, Program Analyst, Division of Injury Compensation Programs (DICP), HRSA, in one of three ways: (1) Send a request to the following address: Annie Herzog, Program Analyst, DICP, HRSA, 5600 Fishers Lane, 08N146B, Rockville, Maryland 20857; (2) call (301) 443-6593; or (3) send an email to aherzog@hrsa.gov. Meeting times could change. For the latest information regarding the meeting, including start time, please check the ACCV website at: http://www.hrsa.gov/advisorycommittees/childhoodvaccines/index.html.

This meeting will only take place on December 5, 2019 and is not being conducted over two days (December 5-6, 2019) as stated previously in the Federal Register (FR Doc. 2019-00439 Filed 1-30-19).

Maria G. Button,
Director, Executive Secretariat.

[FR Doc. 2019-24166 Filed 11-5-19; 8:45 am]

BILLING CODE 4165-15-P